ENVIRONMENTAL PROTECTION AGENCY

[FRL-7896-5]

National Drinking Water Advisory Council's Water Security Working Group Meeting Announcement

AGENCY: Environmental Protection Agency.

ACTION: Notice.

SUMMARY: The Environmental Protection Agency (EPA) announces the fifth public meeting of the Water Security Working Group (WSWG) of the National Drinking Water Advisory Council (NDWAC), which was established under the Safe Drinking Water Act. The purpose of this meeting is to provide an opportunity for the WSWG members to continue deliberations on the following topics: (1) Features of active and effective security programs for drinking water and wastewater utilities (water sector); (2) incentives to encourage broad adoption of active and effective security programs in the water sector; and (3) measures of the performance of water security programs. The focus of the meeting will be on review of the WSWG's draft report and recommendations. The meeting will be open to the public and an opportunity for public comment will be provided. The WSWG findings and recommendations will be provided to the NDWAC for their consideration. The WSWG anticipates providing findings and recommendations to the NDWAC in spring 2005. This is the final planned meeting of the WSWG.

DATES: The WSWG meeting is April 18-20, 2005, in Crystal City, VA, in the Washington, DC area. On April 18, 2005, the meeting is scheduled from 1:30 p.m. to 5:30 p.m., eastern time (e.t.). On April 19, 2005, the meeting is scheduled from 8 a.m. to 5 p.m., e.t. On April 20, 2005, the meeting is scheduled from 8 a.m. to 12 p.m., e.t.

ADDRESSES: The meeting will take place at the Hilton Crystal City, 2399 Jefferson Davis Highway, Arlington, VA 22202. Meetings will be held in the Decatur Room on April 18 and April 19 and in Chesapeake Hall on April 20.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC 20460. Please contact Marc Santora at santora.marc@epa.gov or call 202-564-1597 to receive additional details.

SUPPLEMENTARY INFORMATION:

Background

The WSWG's mission is to: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; (3) consider mechanisms to measure the extent of implementation of these best security practices and policies, identify the impediments to their implementation, and make recommendations as appropriate. The Group is comprised of sixteen members from water and wastewater utilities, public health, academia, state regulators, and environmental and community interests. It is supported by technical experts from the Environmental Protection Agency, the Department of Homeland Security, the Centers for Disease Control and Prevention, and the Department of Defense.

Closed and Open Parts of the Meeting

The WSWG is a working group of the NDWAC; it is not a Federal advisory committee and therefore not subject to the same public disclosure laws that govern Federal advisory committees. The Group can enter into closed session as necessary to provide an opportunity to discuss security-sensitive information relating to specific water sector vulnerabilities and security tactics. Currently, the WSWG does not anticipate closing any parts of the April meeting to the public. However, the Group reserves the right to enter into closed session, if necessary, late in the afternoon of April 18, 2005, immediately before lunch on April 19, 2005, and late in the day on April 20, 2005. If closed sessions are needed, opportunities for public comment will be provided before the closed sessions begin.

If there is a closed meeting session, only WSWG members, Federal resource personnel, facilitation support contractors, and outside experts identified by the facilitation support contractors will attend the closed meeting. A general summary of the topics discussed during closed meetings and the individuals present will be included with the summary of the open portions of the WSWG meeting.

Public Comment

An opportunity for public comment will be provided during the open part of the WSWG meeting. Oral statements will be limited to five minutes, and it is preferred that only one person present the statement on behalf of a group or organization. Written comments may be provided at the meeting or may be sent, by mail, to Marc Santora, Designated Federal Officer for the WSWG, at the e-mail address listed in the FOR FURTHER INFORMATION CONTACT section of this notice.

Special Accommodations

Any person needing special accommodations at this meeting, including wheelchair access, should contact Marc Santora, Designated Federal Officer, at the number or e-mail address listed in the FOR FURTHER INFORMATION CONTACT section of this notice. Requests for special accommodations should be made at least five business days in advance of the WSWG meeting.

Dated: April 4, 2005.
Nanci E. Gelb,
Acting Director, Office of Ground Water and Drinking Water.

[FR Doc. 05-6941 Filed 4-5-05; 8:45 am]

BILLING CODE 6560-50-P